MERIT SYSTEMS PROTECTION BOARD

Agency Information Collection Activities; Proposed Collection

AGENCY: Merit Systems Protection Board.

ACTION: Notice.

SUMMARY: In compliance with the Paperwork Reduction Act (44 U.S.C. 3501 et. seq.), this notice announces that the Merit Systems Protection Board (MSPB) request for a three-year renewal of its Generic Clearance Request for Voluntary Customer Surveys under Executive Order 12862, “Setting Customer Service Standards,” and in accord with 44 U.S.C. 3506 has been forwarded to the Office of Management and Budget (OMB) for review and comment. Surveys under this approval are assigned OMB Control Number 3124-0012.

In this regard, we are soliciting comments on the public reporting burden. The reporting burden for the collection of information on this form is estimated to vary from 5 minutes to 30 minutes per response, with an average of 15 minutes, including time for reviewing instructions, searching existing data sources, gathering and maintaining the data needed, and completing and reviewing the collection of information.

Estimated Annual Reporting Burden
5 CFR section | Annual number of respondents | Frequency per response | Total annual responses | Hours per response (average) | Total hours
1201 and 1209 | 2,000 | 1 | 1,500 | .25 | 375

Send comments regarding the burden estimate, or any other aspect of the information collection, including suggestions for reducing the burden, to the address shown below. Please refer to OMB Control No. 3124-0012 in any correspondence.

DATES: Comments must be received on or before September 16, 2004.

ADDRESSES: Comments concerning the paperwork burden should be addressed to Dr. DeeAnn Batten, Merit Systems Protection Board, 1615 M Street, NW., Washington, DC 20419, by e-mail to deeann.batten@mspb.gov, or by calling (202) 653-6772, ext. 1411, and to the Office of Information and Regulatory Affairs, Office of Management and Budget, Attention: Desk Officer for MSPB, 725-17th Street NW., Washington, DC 20503.

Bentley M. Roberts, Jr.
Clerk of the Board.

[FR Doc. 04-18778 Filed 8-16-04; 8:45 am]

BILLING CODE 7401-01-M